DEPARTMENT OF LABOR

Office of the Secretary; Submission for OMB Review; Comment Request

April 20, 2000.

The Department of Labor (DOL) has submitted the following public information collection request (ICR) to the Office of Management and Budget (OMB) for review and approval in accordance with the Paperwork Reduction Act of 1995 (Pub. L. 104-13, 44 U.S.C. Chapter 35). A copy of the ICR, with applicable supporting documentation, may be obtained by calling the Department of Labor. To obtain documentation for BLS, ETA, PWBA, and OASAM contact Karin Kurz (202) 219-5096 ext. 159 or by E-mail to Kurz-Karin@dol.gov). To obtain documentation for ESA, MSHA, OSHA, and VETS contacting Darrin King (202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 (202) 395-7316, within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Pension and Welfare Benefits Administration.

Title: Prohibited Transaction Exemption 78-06, Apprenticeship Plans.

OMB Number: 1210-0080.

Affected Public: Business or other for-profit; Not-for-profit institutions; Individuals or households.

Frequency: On Occasion.

Number of Respondents: 255.

Total Annual Responses: 1,275.

Estimated time per respondent: 5 Minutes.

Total burden hours: 106 Hours.

Total Annualized capital/startup costs: $0.

Total annual costs (operating/maintaining systems or purchasing services): $0.

Description: Section 408(a) of the ERISA gives the Secretary of Labor the right to grant a conditional or unconditional exemption of any fiduciary or class of fiduciaries or transactions, from all or part of the restrictions imposed by section 406 of ERISA. Prohibited Transaction Class Exemption 78-6 applies only to welfare benefit plans. Class exemption 78-6, which was granted on May 24, 1978, exempts from the prohibited transactions restrictions transactions involving: (1) The purchase of personal property by a collectively bargained multiple employer-employee welfare benefit plan maintained for the purpose of providing apprenticeship training plans from an employer who contributes to such a plan, or a wholly owned subsidiary of such an employer; and (2) the leasing of real property or personal property by an apprenticeship plan from a contributing employer or wholly owned subsidiary of such an employer. By requiring that records pertaining to the exempted transaction are maintained for six years, this ICR insures that the exemption is not abused, the rights of the participants and beneficiaries are protected, and that compliance with the exemption's conditions is taking place.

Type of Review: Extension of a currently approved collection.

Agency: Pension and Welfare Benefits Administration.

Title: Prohibited Transaction Exemption 91-38, Collective Investment Funds.

OMB Number: 1210-0082.

Affected Public: Business or other for-profit; Not-for-profit institutions; Individuals or households.

Frequency: On Occasion.

Number of Respondents: 1,000.

Total Annual Responses: 1,000.

Estimated time per respondent: 5 Minutes.

Total burden hours: 83 Hours.

Total Annualized capital/startup costs: $0.

Total annual costs (operating/maintaining systems or purchasing services): $0.

Description: Section 408(a) of the ERISA gives the Secretary of Labor the right to grant a conditional or unconditional exemption of any fiduciary or class of fiduciaries or transactions, from all or part of the restrictions imposed by section 406 of ERISA. Prohibited Transaction Class Exemption 91-38 provides and exemption from the prohibited transaction provisions of ERISA for certain transactions between collective investment fund and persons who are parties in interest with respect to a plan as long as the plan's participation in the collective investment fund does not exceed a specific percentage of the total assets in the collective investment fund. By requiring that records pertaining to the exempted transaction are maintained for six years, this ICR insures that the exemption is not abused, the rights of the participants and beneficiaries are protected, and that compliance with the exemption's conditions is taking place.

Ira L. Mills,
Departmental Clearance Officer.

[FR Doc. 00-10381 Filed 4-25-00; 8:45 am]

BILLING CODE 4510-29-M